DEPARTMENT OF ENERGY

Federal Energy Regulatory Commission

[Project No. 2306-098]

Great Bay Hydro Corporation; Notice Dismissing Rehearing Requests as Moot

January 5, 2007.

On August 29, 2006, the license for the Great Bay Hydro Corporation's (Great Bay) 4.80-megawatt Clyde River Hydroelectric Project No. 2306 was amended to authorize the licensee to remove from the project boundary certain impoundments, structures, and lands and to convey in fee a portion of the lands to the Vermont Agency of Natural Resources (ANR), as well as to convey to the Vermont ANR a conservation easement on certain lands remaining within the project boundary.¹

¹ See 116 FERC ¶ 62,169 (2006).

On September 28, 2006, Great Bay and Vermont ANR filed timely requests for rehearing and or clarification of the August 29 order. However, upon consideration of the record in the proceeding, the August 29 order was rescinded and the proceeding was remanded to Commission staff for further action.² Accordingly, the requests for rehearing filed on September 28, 2006, by Great Bay Hydro Corporation and by Vermont Agency of Natural Resources are dismissed as moot.

² See 117 FERC ¶ 61,329 (2006).

Magalie R. Salas,
Secretary.

[FR Doc. E7-286 Filed 1-11-07; 8:45 am]

BILLING CODE 6717-01-P